DEPARTMENT OF AGRICULTURE

Food and Nutrition Service

Agency Information Collection Activities: Proposed Collection; Comment Request—Annual State Report on Verification of Supplemental Nutrition Assistance Program Participation

AGENCY: Food and Nutrition Service, USDA.

ACTION: Notice.

SUMMARY: This is an extension, without change, of a currently approved information collection request (ICR). In accordance with the Paperwork Reduction Act of 1995, this notice invites the general public and other public agencies to comment on the proposed information collection for the Annual State Report of Verification of Supplemental Nutrition Assistance Program (SNAP) Participation. The purpose of the Annual State Report of Verification of SNAP Participants is to ensure that no person who is deceased, or has been permanently disqualified from SNAP, improperly received SNAP benefits for the fiscal year preceding the report submission. Section 4032 of the Agriculture Act of 2014 is the basis for this collection. Section 4032 mandates that States will “submit to the Secretary a report containing sufficient information for the Secretary to determine whether the State agency has, for the most recently concluded fiscal year preceding that annual date, verified that the State agency in that fiscal year—(1) did not issue benefits to a deceased individual; and (2) did not issue benefits to an individual who had been permanently disqualified from receiving benefits.” An email from each State agency to the corresponding Food and Nutrition Service (FNS) Regional SNAP Program Director containing the answers to the above questions will be used as the mechanism for State agencies to report their compliance with § 4032 of the Agriculture Act of 2014.

DATES: Written comments must be submitted on or before April 12, 2019.

ADDRESSES: Comments are invited on: (a) Whether the proposed information collection is necessary for the proper performance of the functions of the agency, including whether the information has practical utility; (b) the accuracy of the agency's estimated burden for the proposed information collection, including the validity of the methodology and assumptions used; (c) ways to enhance the quality, utility, and clarity of the information to be collected; and (d) ways to minimize the burden of the information collection on those who are to respond, including the use of appropriate automated, electronic, mechanical, or other technological collection techniques or other forms of information technology.

Comments may be sent to Jane Duffield, Branch Chief, State Administration Branch, Program Accountability and Administration Division, Food and Nutrition Service, U.S. Department of Agriculture, 3101 Park Center Drive, Room 818, Alexandria, VA 22302. You may also download an electronic version of this notice at http://www.fns.usda.gov/snap/federal-register-documents/rules/view-all and comment via email at SNAPSAB@fns.usda.gov or the Federal e-Rulemaking Portal. Go to http://www.regulations.gov and follow the online instructions for submitting comments electronically.

All written comments will be open for public inspection at the office of the Food and Nutrition Service during regular business hours (8:30 a.m. to 5 p.m., Monday through Friday) at 3101 Park Center Drive, Room 822, Alexandria, Virginia 22302.

All comments to this notice will be included in the request for Office of Management and Budget approval. All comments will also become a matter of public record.

FOR FURTHER INFORMATION CONTACT: Requests for additional information or copies of this information collection should be directed to Tamieka Muns at (703) 305-2636.

SUPPLEMENTARY INFORMATION:

Title: Annual State Report on Verification of SNAP Participation.

OMB Number: 0584-0605.

Expiration Date: March 30, 2019.

Type of Request: Extension, without change, of a currently approved information collection.

Abstract: SNAP regulations at 7 CFR 273.16 require that State agencies disqualify an individual who has committed an intentional program violation (IPV). Paragraph 7 CFR 273.16(e)(8) requires that these individuals “be disqualified in accordance with the disqualification periods and procedures in paragraph (b) of this section” (273.16(b)). Paragraph 7 CFR 273.16(i) requires State agencies to report information concerning each individual disqualified for an IPV to the disqualified recipient database, the electronic Disqualified Recipient System (eDRS), and to use eDRS data to determine the eligibility of individual applicants prior to certification. SNAP regulations at 7 CFR 272.14 require that each State agency establish a system to verify and ensure that benefits are not issued to individuals who are deceased, and that data source is the Social Security Administration's (SSA) Death Master File. The information required for the Annual State Report on Verification of SNAP Participation is obtained by validating that the State had the appropriate systems in place and followed procedures currently mandated at 7 CFR 272.14 and 7 CFR 273.16 for the preceding fiscal year. The burdens associated with establishing a system to verify and ensure that benefits are not issued to deceased individuals or those permanently disqualified from SNAP using both the SSA Death Master File and eDRS are already approved under OMB burden number 0584-0064, expiration date July 31, 2020.

In order to meet the reporting requirements specified in section 4032 of the Act, States are required to confirm via email to their FNS Regional SNAP Program Director that in the immediately preceding Federal fiscal year, they had the appropriate systems in place to meet the requirements of regulations at 7 CFR 272.14 and 273.16(i)(4) and that they conducted the matches required by these regulations. States are required to submit their section 4032 reports to the FNS Regional SNAP Director by March 31 each year for the preceding Federal fiscal year. The estimated annual burden for this collection is 57.41 hours. This estimate includes the time it takes each State agency to confirm that they have complied with FNS regulations for performing mandated checks against both eDRS and the SSA Death Master File, send an email to their FNS Regional Office SNAP Program Director to provide the verification, and any additional recordkeeping associated with this burden. States must perform this verification once a year and must retain these records for 3 years.

Annual Reporting Burden Estimates

Affected Public: State, Local and Tribal Government Agencies.

Number of Respondents: 53 State Agencies.

Number of Responses per Respondent: 1.

Total Annual Responses: 53.

Reporting time per Response: 1 Hour.

Estimated Annual Reporting Burden Hours: 53.

Annual Recordkeeping Burden Estimates

Affected Public: State, Local and Tribal Government Agencies.

Number of Respondents: 53 State Agencies.

Number of Responses per Respondent: 1.

Total Annual Responses: 53.

Reporting time per Response: 0.08333 Hours or 5 minutes.

Estimated Annual Reporting Burden Hours: 4.41649.

Annual Grand Total Burden Estimates for Reporting and Recordkeeping: 57.41 hours.

Dated: February 1, 2019.
Brandon Lipps,
Administrator, Food and Nutrition Service.

[FR Doc. 2019-01726 Filed 2-8-19; 8:45 am]

BILLING CODE 3410-30-P